POSTAL SERVICE

39 CFR Part 111

Periodicals Pending Authorization Postage

AGENCY: Postal ServiceTM.

ACTION: Proposed rule.

SUMMARY: The Postal Service is proposing to amend Mailing Standards of the United States Postal Service, Domestic Mail Manual (DMM®) to revise the process for calculating postage on a Periodicals publication pending authorization.

DATES: Submit comments on or before November 1, 2021.

ADDRESSES: Mail or deliver written comments to the Director, Product Classification, U.S. Postal Service, 475 L'Enfant Plaza SW, Room 4446, Washington, DC 20260-5015. You may inspect and photocopy all written comments, by appointment only, at USPS® Headquarters Library, 475 L'Enfant Plaza SW, 11th Floor North, Washington, DC 20260. These records are available for review on Monday through Friday, 9 a.m.-4 p.m., by calling 202-268-2906. If sending comments by email, include the name and address of the commenter and send to PCFederalRegister@usps.gov, with a subject line of “Periodicals Pending Authorization Postage”. Faxed comments are not accepted. All submitted comments and attachments are part of the public record and subject to disclosure. Do not enclose any material in your comments that you consider to be confidential or inappropriate for public disclosure.

FOR FURTHER INFORMATION CONTACT: Elke Reuning-Elliott at (202) 268-4063 or Garry Rodriguez at (202) 268-7281.

SUPPLEMENTARY INFORMATION: Currently, postage for Periodicals pending authorization is calculated by completing a PS Form 3541, Postage Statement-Periodicals, and charging the price for the applicable class of mail determined by the eligibility of the mailpiece. Based on the numerous pricing differences in Periodicals and other classes of mail, this process is labor intensive and does not provide exact pricing.

The Postal Service is proposing to revise the process and calculate pending postage by assigning the existing applicable class of mail prices based upon common characteristics of shape and weight. Each applicable class of mail price will be expressed as a percentage from the corresponding Periodicals price. This new process will simplify the calculation process during the authorization review period, and the refund process when a Periodicals publication is approved.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

The Postal Service is proposing to implement this change effective January 2022.

We believe this proposed revision will provide customers with a more efficient and easier process.

List of Subjects in 39 CFR Part 111

Administrative practice and procedure, Postal Service.

Accordingly, 39 CFR part 111 is proposed to be amended as follows:

PART 111—[Amended]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail Letters, Flats, and Parcels

* * * * *

207 Periodicals

* * * * *

5.0 Applying for Periodicals Authorization

* * * * *

5.2 Mailing While Application Pending

* * * * *

[Renumber 5.2.3 and 5.2.4 as 5.2.4 and 5.2.5, add new 5.2.3 to read as follows:]

5.2.3 Pending Postage

Postage for a Periodicals publication pending authorization is calculated by applying the applicable percent in Exhibit 5.2.3 to PS Form 3541, Part P, Line P-1.

Exhibit 5.2.3 Pending Postage

Pending class of mail | Percent
USPS Marketing Mail Letters | * 00
USPS Marketing Mail Flats | 63
Nonprofit USPS Marketing Mail Letters | * 00
Nonprofit USPS Marketing Mail Flats | 40
Bound Printed Matter Flats | 146
Bound Printed Matter Parcels | * 00
Parcel Select Parcels | 585
First-Class Mail Letters | 95
First-Class Mail Flats | 427
First-Class Package Service-R | 311
Priority Mail | 545
* Use Periodicals prices.

* * * * *

Ruth B. Stevenson,
Chief Counsel, Ethics & Legal Compliance.

[FR Doc. 2021-21078 Filed 9-29-21; 8:45 am]

BILLING CODE 7710-12-P